DEPARTMENT OF HEALTH AND HUMAN SERVICES

Centers for Disease Control and Prevention

[30Day-23-1294]

Agency Forms Undergoing Paperwork Reduction Act Review

In accordance with the Paperwork Reduction Act of 1995, the Centers for Disease Control and Prevention (CDC) has submitted the information collection request titled “The Maternal Mortality Review Information Application (MMRIA)” to the Office of Management and Budget (OMB) for review and approval. CDC previously published a “Proposed Data Collection Submitted for Public Comment and Recommendations” notice on January 11, 2023 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and (e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

The Maternal Mortality Review Information Application (MMRIA) (OMB Control No. 0920-1294, Exp. 04/30/2023)—Revision—National Center for Chronic Disease Prevention and Health Promotion (NCCDPHP), Centers for Disease Control and Prevention (CDC).

Background and Brief Description

The Centers for Disease Control and Prevention (CDC) seeks a Revision to continue to collect information through the Maternal Mortality Review Information Application (MMRIA) for three additional years. MMRIA is a standardized data collection system that allows Maternal Mortality Review Committees (MMRCs) across the country to abstract relevant data (clinical and non-clinical) from a variety of sources, document committee decisions, and analyze data in order to better understand the contributing factors and preventability of pregnancy-related deaths and thus to develop recommendations for prevention.

Pregnancy-related deaths are defined as a death as a result of pregnancy or delivery complications, a chain of events initiated by pregnancy, or the aggravation of an unrelated condition by the physiologic effects of pregnancy. Considerable racial disparities exist, with persons who are non-Hispanic Native Hawaiian or Other Pacific Islander, non-Hispanic American Indian/Alaska Native and non-Hispanic Black persons more likely to die from pregnancy-related complications than persons of other race-ethnicity classifications. Findings from analyses of aggregated MMRC data indicate that about four out of five pregnancy-related deaths are preventable.

Maternal Mortality Review is a process by which a multidisciplinary committee at the jurisdiction level identifies and reviews cases of death that occur during or within one year of end of pregnancy. Members of MMRCs typically represent public health, obstetrics and gynecology, maternal-fetal medicine, nursing, midwifery, forensic pathology, mental and behavioral health, community-based organizations, and other relevant partners. Through a partnership among the MMRC, state vital records office, and epidemiologists, deaths among females of reproductive age are examined to determine if they occurred during pregnancy or within one year of the end of pregnancy (i.e., pregnancy-associated deaths). Through this process, potential cases of pregnancy-related deaths (i.e., death from any cause related to or aggravated by pregnancy or its management) are then identified. Review committees access multiple sources of clinical and non-clinical information to understand the circumstances surrounding a death in order to determine pregnancy-relatedness and develop recommendations for action to prevent similar deaths in the future.

MMRIA is a standardized data collection system designed to support MMRC processes. Data are abstracted and entered into MMRIA from various sources, including death records, autopsy reports, birth and fetal death records, prenatal care records, emergency department visit records, hospitalization records, records from other medical office visits, medical transport records, social and environmental profiles, mental health profiles, and informant interviews. Case narratives for committee reviews are developed from the abstracted data entered into MMRIA to facilitate committee review, and committee decisions based on their review are also be entered into MMRIA.

The data collected in MMRIA is used to facilitate an understanding of the drivers of maternal mortality and complications of pregnancy and associated disparities and implement data driven recommendations.

The burden estimates presented here are applicable to the 39 jurisdictions with funding support (which support 40 reporting jurisdictions through the cooperative agreements Preventing Maternal Deaths: Supporting Maternal Mortality Review Committees (CDC-RFA-DP19-1908) and Preventing Maternal Mortality: Supporting Maternal Mortality Review Committees CDC-RFA-DP22-2211) and 13 remaining eligible jurisdictions that may apply to receive funding in FY23 (CDC-RFA-DP-23-0066). These jurisdictions are required to compile a defined set of information about pregnancy-related deaths into MMRIA. It is estimated that information will be collected for a total of 2,240 pregnancy-associated deaths on average, annually, among the 53 jurisdictions with current or potential funding support through CDC-RFA-DP19-1908, CDC-RFA-DP22-2211, and CDC-RFA-DP-23-0066. For 34 jurisdictions, it is estimated that on average, 15 hours of data abstraction are required for each death entered into MMRIA. The other 19 jurisdictions are able to participate in a process to reduce burden by which CDC uploads vital records information into MMRIA rather than jurisdiction staff manually abstracting vital records. For these 19 jurisdictions, the estimated average is 14 hours of abstraction for each death entered into MMRIA. For all jurisdictions with current or potential funding support through CDC-RFA-DP19-1908, CDC-RFA-DP22-2211, and CDC-RFA-DP-23-0066, an additional 24 minutes on average is needed to enter the committee decisions into MMRIA.

There are four changes that result in this request for revision, with the first three having an impact on the estimated burden for this revision. First, through additional congressional appropriations, an additional 15 jurisdictions are now funding recipients from the time of initial OMB PRA approval. An additional 13 jurisdictions are eligible to apply for FY 23 funding. Overall, this represents an increase from 25 to 53 respondents. Second, CDC estimates a higher number of pregnancy-associated deaths due to utilizing data from the Pregnancy Mortality Surveillance System (PMSS) rather than CDC WONDER for these estimates. PMSS estimates of pregnancy-associated deaths are more accurate due to more comprehensive and complete identification of these deaths through multiple case identification methods. Third, CDC has been working with the National Association for Public Health Statistics and Information Systems on an initiative that enables CDC to transfer vital records data associated with CDC identified pregnancy-associated deaths directly into a jurisdiction's instance of MMRIA, reducing manual data entry burden for the 19 respondents participating in the initiative. Fourth, to address user identified needs and increase data use for analysis by jurisdictions, a total of 60 new optional fields were added to MMRIA, three fields removed, and two fields combined into one. None of the added fields are required fields; 50 would only be relevant for specific causes of death or only when a specific type of record is available; the majority of new optional fields are drop down fields with minimal response burden.

The changes resulted in an overall increase of 21,932 burden hours. CDC requests OMB approval for an estimated annual burden of 33,482 hours. There is no cost for respondents other than their time to participate.

Estimated Annualized Burden Hours
Type of respondents | Form name | Number of respondents | Number of responses per respondent | Average burden per response (in hours)
Jurisdictions with current or potential funding support through CDC-RFA-DP19-1908, CDC-RFA-DP22-2211, and CDC-RFA-DP-23-0066 who manually abstract all data into MMRIA | MMRIA abstraction form | 34 | 42 | 15
Jurisdictions with current or potential funding support through CDC-RFA-DP19-1908, CDC-RFA-DP22-2211, and CDC-RFA-DP-23-0066 for which CDC is uploading vital records into MMRIA and jurisdiction staff abstract remaining data manually into MMRIA | MMRIA abstraction form | 19 | 42 | 14
All jurisdictions with current or potential funding support through CDC-RFA-DP19-1908, CDC-RFA-DP22-2211, and CDC-RFA-DP-23-0066 | MMRIA committee decision form | 53 | 42 | 24/60

Jeffrey M. Zirger,
Lead, Information Collection Review Office, Office of Scientific Integrity, Office of Science, Centers for Disease Control and Prevention.

[FR Doc. 2023-07995 Filed 4-14-23; 8:45 am]

BILLING CODE 4163-18-P